Proclamation 9206 of October 31, 2014

National Family Caregivers Month, 2014

By the President of the United States of America

A Proclamation

Each day, courageous individuals step forward to help care for family members in need, their quiet acts of selflessness and sacrifice telling a story of love and devotion. Across our country, parents and children, siblings and spouses, friends and neighbors heroically give of themselves to support those in their lives affected by illness, injury, or disability. During National Family Caregivers Month, we salute the people who play difficult and exhausting roles, and we recommit to lifting up these Americans as they care for their loved ones while protecting their dignity and individuality.

In the United States, more than 60 million caregivers provide invaluable strength and assistance to their family members, and as the number of older Americans rises, so will the number of caregivers. Many of these dedicated people work full time and raise children of their own while also caring for the needs of their loved ones. Caregivers support the independence of their family members and enable them to more fully participate in their communities, and as a Nation, we have an obligation to empower these selfless individuals.

My Administration continues to work to improve many of the resources on which caregivers depend. The Affordable Care Act invested in programs that expand home and community-based services. To lift up a new generation of service members—our 9/11 Generation—we are fighting to ensure those who care for them have access to the support they need, including financial assistance, comprehensive caregiver training, mental health services and counseling, and respite care. Many caregivers rely on workplace flexibility and reasonable accommodations, and this year my Administration held the first-ever White House Summit on Working Families to develop a comprehensive agenda that ensures hard-working Americans do not have to choose between being productive employees and responsible family members. And next year, we will host the White House Conference on Aging, which will focus on the needs of older Americans and those who care for them.

Not only this month, but every month, let us work alongside our Nation's caregivers and make certain they are able to provide the best possible care for their loved ones for as long as necessary. Together, we recognize those who place service above self, including the women and men looking after our veterans. By offering them the same comfort, social engagement, and stability they bring to others, may we remind them that they are not alone.

NOW, THEREFORE, I, BARACK OBAMA, President of the United States of America, by virtue of the authority vested in me by the Constitution and the laws of the United States, do hereby proclaim November 2014 as National Family Caregivers Month. I encourage all Americans to pay tribute to those who provide for the health and well-being of their family members, friends, and neighbors.

IN WITNESS WHEREOF, I have hereunto set my hand this thirty-first day of October, in the year of our Lord two thousand fourteen, and of the Independence of the United States of America the two hundred and thirty-ninth.

[FR Doc. 2014-26494

Filed 11-5-14; 8:45 am]

Billing code 3295-F5